DEPARTMENT OF TRANSPORTATION

National Highway Traffic Safety Administration

Reports, Forms, and Record Keeping Requirements Agency Information Collection Activity Under OMB Review

AGENCY: National Highway Traffic Safety Administration (NHTSA), U.S. Department of Transportation (DOT).

ACTION: Notice

SUMMARY: In compliance with the Paperwork Reduction Act of 1995 (44 U.S.C. 3501 et seq.), this notice announces that the Information Collection Request (ICR) abstracted below has been forwarded to the Office of Management and Budget (OMB) for review and comment. The ICR describes the nature of the information collection and the expected burden. The Federal Register Notice with a 60-day comment period was published on December 9, 2015 (Federal Register/Vol. 80, No. 236/pp. 16613-16615).

DATES: Comments must be submitted on or before July 29, 2016.

ADDRESSES: Send comments, within 30 days, to the Office of Information and Regulatory Affairs, Office of Management and Budget, 725 17th Street NW., Washington, DC 20503, Attention NHTSA Desk Officer.

FOR FURTHER INFORMATION CONTACT: Mary T. Byrd, 202-366-5595.

SUPPLEMENTARY INFORMATION:

Title: Evaluation of Community-Oriented Enforcement Demonstrations.

Type of Request: New information collection requirement.

Abstract: NHTSA was established by the Highway Safety Act of 1970 (23 U.S.C. 101). Its Congressional mandate is to reduce the number of deaths, injuries, and economic losses resulting from motor vehicle crashes on our nation's highways. To accomplish this mission, NHTSA conducts research on driver behavior and traffic safety to develop efficient and effective means of bringing about safety improvements. This information collection supports NHTSA's strategic goal of safety. Within the next hour, an average of one person will die in an alcohol-impaired-driving crash and one person will die unbuckled in a crash. In 2014, 9,967 people died in alcohol-impaired-driving crashes, an average of one alcohol-impaired-driving death every 53 minutes. In the same year, 9,385 people died in passenger vehicle crashes while not wearing a seat belt, an average of one person dying unbuckled every 56 minutes. To help decrease alcohol-impaired-driving deaths and save more lives with seat belts, approval is requested to conduct a public information collection to help evaluate the effectiveness of two traffic safety programs called Building Community Support for Impaired Driving Enforcement and Building Community Support for Seat Belt Enforcement. The programs will use community-oriented enforcement programs to increase community involvement in and support for alcohol-impaired-driving and seat belt enforcement. The programs are designed to create stronger community norms surrounding the value of traffic enforcement and the importance of driving sober and being buckled. A key to determining if these programs reach their objective is to survey the public regarding exposure to the program and support for enforcement.

Affected Public: The potential respondent universe is comprised of licensed drivers aged 18 years and older visiting locations such as Department of Motor Vehicles (DMV) offices in the program and control (comparison) areas. The program and control areas for these programs have not been selected as of the time of this request. The program areas will be communities with a population between 75,000 and 200,000 people, a local government and law enforcement agency interested in participation, alcohol-impaired-driving crashes and fatalities above the national average (alcohol-impaired-driving program only), seat belt use below the national average, unrestrained fatalities above the national average, and lower levels of seat belt enforcement (seat belt program only). The control areas will be demographically similar to the program areas and be in separate media markets.

Estimated Total Annual Burden: 2,168 hours (i.e., 21,216 total participants including 16,416 taking an average of 5 minutes to complete the screener survey and 4,800 taking an average of 10 minutes to complete the full survey).

Comments are invited on the following:

(i) Whether the proposed collection of information is necessary for the proper performance of the functions of the agency, including whether the information will have practical utility;

(ii) the accuracy of the agency's estimate of the burden of the proposed information collection;

(iii) ways to enhance the quality, utility, and clarity of the information to be collected; and

(iv) ways to minimize the burden of the collection of information on respondents, including the use of automated collection techniques or other forms of information technology.

A comment to OMB is most effective if OMB receives it within 30 days of publication.

Authority: 44 U.S.C. Section 3506(c)(2)(A).

Issued on: June 24, 2016.
Jeff Michael,
Associate Administrator, Research and Program Development.

[FR Doc. 2016-15366 Filed 6-28-16; 8:45 am]

BILLING CODE 4910-59-P